DEPARTMENT OF DEFENSE

Department of the Air Force

[Docket ID USAF-2009-0016]

Privacy Act of 1974; System of Records

AGENCY: Department of the Air Force, DoD.

ACTION: Notice to add a system of records.

SUMMARY: The Department of the Air Force is proposing to add a system of records to its inventory of record systems subject to the Privacy Act of 1974 (5 U.S.C. 552a), as amended.

DATES: The changes will be effective on March 19, 2009 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Mr. Kenneth Brodie at (703) 696-7557.

SUPPLEMENTARY INFORMATION: The Department of the Air Force notices for systems of records subject to the Privacy Act of 1974 (5 U.S.C. 552a), as amended, have been published in the Federal Register and are available from the address above.

The proposed systems reports, as required by 5 U.S.C. 552a(r) of the Privacy Act of 1974, as amended, will be submitted on January 8, 2009, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: February 11, 2009.
Morgan E. Frazier,
Alternate OSD Federal Register Liaison Officer, Department of Defense.

F036 HAF A

System name:

Air Force Outreach Request Records.

System location:

Headquarters United States Air Force; Headquarters of Major Commands; Field Operating Agencies; Direct Reporting Units; Headquarters of Combatant Commands for which Air Force is Executive Agent and all Air Force installations and units. Official mailing addresses are published as an appendix to the Air Force's compilation of record systems notices.

Categories of individuals covered by the system:

Military and civilian personnel and members of the public making requests through the Air Force Outreach System (AFORS).

Categories of records in the system:

The system includes data pertaining to the bands, speakers and representatives who represent the Air Force at events, data pertaining to individuals and organizations who submit requests in the AFORS system and data pertaining to the events themselves.

Includes individual's name, Social Security Number (SSN), rank, home, work and cellular telephone number, street address, personal and work e-mail address, organization name, biographies of volunteers, event date, location, title, category, audience type, priority, schedule, type of band/music requested, type of speech or representation requested, request status, approval/disapproval and after action data. Volunteers can attach documents with information such as home town, parents' home town, deployments or operations, special interests, degree or major, college or university, foreign languages, job specialty and/or weapon system expertise, preferred speaking topics and preferred speaking times.

Authority for maintenance of the system:

10 U.S.C. 8013, Secretary of the Air Force; AFI 35-101, Public Affairs Policies and Procedures; DoDD 5410.18, Public Affairs Community Relations Policy and E.O. 9397 (SSN).

Purpose(s):

The Air Force receives requests to send a band, speaker or representative to participate in events put on by military, governmental and private organizations. This data is used to assist the Public Affairs Office in selecting the events to which the Air Force will send representatives, find the most appropriate band, speaker or representative for each event and briefing the person or band appointed before his, her or its appearance.

Routine uses of records maintained in the system, including categories of users and the purposes of such uses:

The DoD `Blanket Routine Uses' published at the beginning of the Air Force's compilation of systems of records notices apply to this system.

Policies and practices for storing, retrieving, accessing, retaining, and disposing of records in the system:

Storage:

Files are maintained in folders and electronic storage media.

Retrievability:

Files are retrieved by name.

Safeguards:

Records are accessed by persons responsible for servicing the record system in performance of their official duties and by authorized personnel who are properly screened and cleared for need to know. Records are stored in locked rooms and cabinets. Those in computer storage devices are protected by computer system software.

Retention and disposal:

Retain in office files until superseded, obsolete or no longer needed for reference. Records are destroyed by tearing into pieces, shredding, pulping, macerating, or burning. Computer records are destroyed by erasing, deleting or overwriting.

Case files which result in an initially favorable adjudicative determination are destroyed. Case files resulting in an adverse adjudicative determination are retained in office files for three calendar years after the close of case and then retired to the National Archives on January 1 of the following year.

System manager(s) and address:

Mr. James A. Brewer, 200 W. Adams St., Ste. 1440, Chicago, IL 60606-5226 or SMSgt Daniel E. Friedly, 1690 AF Pentagon, Washington, DC 20330-1690.

Notification procedure:

Individuals seeking to determine whether information about themselves is contained in this system should address written inquiries with notary certified signature to:

Requests concerning Air Force speakers and representatives:

Mr. James A. Brewer, 200 W. Adams St., Ste. 1440, Chicago, IL 60606-5226.

Requests concerning Air Force bands:

SMSgt Daniel E. Friedly, 1690 AF Pentagon, Washington, DC 20330-1690.

Individuals should provide full name, including any former names, rank, grade, address and phone number.

Record access procedures:

Individuals seeking to determine whether information about themselves is contained in this system should address written inquiries with notary certified signature to:

Requests concerning Air Force speakers and representatives:

Mr. James A. Brewer, 200 W. Adams St., Ste. 1440, Chicago, IL 60606-5226.

Requests concerning Air Force bands:

SMSgt Daniel E. Friedly, 1690 AF Pentagon, Washington, DC 20330-1690.

Individuals should provide full name, including any former names, rank, grade, address and phone number.

Contesting record procedures:

The Air Force rules for accessing records, and for contesting contents, and appealing initial agency determinations are published in Air Force Instruction 33-332; 32 CFR, part 806b; or may be obtained from the system manager.

Record source categories:

Information is received from persons requesting Air Force Speakers and Representatives at events, volunteers as speakers or representatives of the Air Force and persons requesting Air Force Bands.

Exemptions claimed for the system:

None.

[FR Doc. E9-3368 Filed 2-13-09; 8:45 am]

BILLING CODE 5001-06-P